DEPARTMENT OF LABOR

Employment and Training Administration

[NAFTA-4964, NAFTA-4964A] Rockwell Collins Passenger Systems Irvine, CA and Rockwell Collins Passenger Systems Pomona, CA; Amended Certification Regarding Eligibility to Apply for NAFTA-Transitional Adjustment Assistance

In accordance with section 250(a), Subchapter D, Chapter 2, Title II, of the Trade Act of 1974, as amended (19 U.S.C. 2273), the Department of Labor issued a Certification of Eligibility to Apply for NAFTA Transitional Adjustment Assistance on July 16, 2001, applicable to workers of Rockwell Collins, Passenger Systems, located in Irvine and Pomona, California. The notice was published in the Federal Register on August 6, 2001 (66 FR 41053).

At the request of the State agency, the Department reviewed the certification for workers of the subject firm. The company reports that Rockwell Collins produces more that one in-flight entertainment system. Review of the investigation file shows that 8.6″ Boeing retracting for PAVES in-flight entertainment system was the only article produced at the Passenger Systems Division shifted from the production facility to Mexico.

The intent of the Department's certification is to include only those workers of Rockwell Collins, Passenger Systems, Irvine and Pomona, California, adversely affected by the shift in production to Mexico. Accordingly, the Department is amending the certification to limit the worker group coverage to those engaged in activities related to the production of 8.6″ Boeing retract for PAVES in-flight entertainment systems.

The amended notice applicable to NAFTA-4964 is hereby issued as follows:

All workers engaged in activities related to the production of 8.6″ Boeing retract for PAVES in-flight entertainment systems at Rockwell Collins, Passenger Systems, Irvin, California (NAFTA-4964) and Pomona, California (NAFTA-4964A), who became totally or partially separated from employment on or after May 11, 2000 through July 16, 2003, are eligible to apply for NAFTA-TAA under Section 250 of the Trade Act of 1974.

Signed in Washington, D.C. this 27th day of September 2001.
Linda G. Poole,
Certifying Officer, Division of Trade Adjustment Assistance.

[FR Doc. 01-26043 Filed 10-16-01; 8:45 am]

BILLING CODE 4510-30-M